DEPARTMENT OF TRANSPORTATION

National Highway Traffic Safety Administration

Denial of Motor Vehicle Defect Petition, DP03-003

AGENCY: National Highway Traffic Safety Administration (NHTSA), DOT.

ACTION: Denial of petition for a defect investigation.

SUMMARY: This notice describes the reasons for denying a petition (DP03-003) submitted to NHTSA under 49 U.S.C. 30162, requesting that the agency conduct a “Petition Analysis * * * specific to problems of Vehicle Speed Control linkages which results [sic] in sudden, unexpected excessive acceleration even though there is no pressure applied to the accelerator pedal.”

FOR FURTHER INFORMATION CONTACT: Bob Young, Office of Defects Investigation (ODI), NHTSA; 400 Seventh Street, SW., Washington, DC 20590. Telephone: (202) 366-4806.

SUPPLEMENTARY INFORMATION: In a petition dated April 25, 2003, Mr. Peter Boddaert requested NHTSA to conduct a Petition Analysis “covering Lexus cars, model years 1997 to 2000, model series 300 & 400.” Mr. Boddaert, made this request after experiencing at least three events involving alleged unintended engine speed increase in his model year (MY) 1999 Lexus LS 400. The third of these resulted in a crash when his vehicle rear-ended another stopped at a traffic light. According to the petitioner, his Lexus was inspected by multiple dealers, and no mechanical cause was ever identified that would explain what happened in any of the three incidents.

In support of his petition, Mr. Boddaert cites a number of consumer complaints in NHTSA's database concerning “vehicle speed control” in the subject vehicles. Included among the thirty-six reports he cites is one involving a Lexus that “collided with five other cars in the space of one half mile before it could be stopped.”

NHTSA has reviewed the material cited by the petitioner. The results of this review and our analysis of the petition's merit is set forth in the DP03-003 Petition Analysis Report, published in its entirety as an appendix to this notice.

For the reasons presented in the petition analysis report, there is no reasonable possibility that an order concerning the notification and remedy of a safety-related defect would be issued as a result of granting Mr. Boddaert's petition. Therefore, in view of the need to allocate and prioritize NHTSA's limited resources to best accomplish the agency's safety mission, the petition is denied.

Authority: 49 U.S.C. 30162(d); delegations of authority at CFR 1.50 and 501.8.

Issued on: September 15, 2003.
Kathleen C. DeMeter,
Acting Associate Administrator for Enforcement.

Appendix—Petition Analysis—DP03-003

1.0 Introduction

On May 13, 2003 the National Highway Traffic Safety Administration (NHTSA) received an April 25, 2003 letter from Mr. Peter Boddaert asking the agency to conduct a “petition analysis” of 1997 through 2000 model year (MY) Lexus 300 and 400 series vehicles (subject vehicles) for “problems of Vehicle Speed Control linkages which results [sic] in sudden, unexpected excessive [vehicle] acceleration even though there is no pressure applied to the accelerator pedal.” In support of his petition, Mr. Boddaert cites consumer complaints he found on NHTSA's Web site concerning “vehicle speed control” in the subject vehicles. Included among these reports is one involving a Lexus that “collided with five other cars in the space of one half mile before it could be stopped.”

The petitioner contends that, of the 271 Lexus-related complaints in NHTSA's consumer complaint database, 36 (13%) have been coded by the agency as relating to “vehicle speed control.” According to the petitioner, this report frequency indicates there is a “significant” safety concern with the subject Lexus vehicles.

To buttress his claim, the petitioner relates his own experience as follows:

In my own case, I own [owned, he has since traded for another vehicle] a 1999 Lexus LS400 and have experienced this problem at least three times. The first time was reported to NHTSA on ODI [complaint] #760680. The most recent occurrence was on Friday April 17th in the state of Virginia when, without warning and without me touching the accelerator pedal the car accelerated forward rear ending the car ahead of me. For this I received a police citation. On the previous occasions when this has happened the car has been to the Lexus dealer for inspection. Each time the dealer says they cannot replicate the problem and can find nothing wrong. From all the other ODI reports, the response from the dealer is the same.

In analyzing the petitioner's allegations and preparing a response, we:

• Reviewed the petitioner's April 25, 2003 letter and two other complaints he filed with the agency on April 14, 2003 and April 28, 2003, both concerning unintended engine speed increase in his MY 1999 LS 400.¹

¹ In the first complaint (ODI #760680), he alleges “Engine revs to extremely high rpm (-5000) with no throttle input from driver.” In the second complaint (ODI #10017631), he simply reports “The vehicle experienced sudden acceleration.”

• Reviewed a report documenting NHTSA's study of sudden acceleration. “An Examination of Sudden Acceleration” was published in January 1989 and is available from the National Technical Information Service; Springfield, VA 22161, as report number DOT-HS-807-367.

• Reviewed two NHTSA reports (MF99-002 and MF99-002-Supplemental) concerning a fatal sudden acceleration crash occurring in Minneapolis, MN on December 4, 1998.

• Reviewed information gathered and analyzed during NHTSA's assessment of petition DP99-004 (Sudden Acceleration, MY 1988 Lincoln Town Car).

• Reviewed information gathered and analyzed during NHTSA's assessment of petition DP02-005 (Sudden Acceleration, MY 1991-95 Jeep Cherokee/Grand Cherokee).

• Reviewed information gathered and analyzed during NHTSA's Preliminary Evaluation, PE02-035 (Brake/Acceleration Pedal Separation— Ford Taurus/Sable MY 2000-2001).

• Reviewed our consumer complaint database for “sudden acceleration” and/or “vehicle speed control” related reports received through July 9, 2003 concerning Lexus, Cadillac, and Lincoln vehicles.

• Reviewed vehicle manufacturer information provided to us during various sudden acceleration investigations.

• Inspected a MY 1999 Lexus LS 400 to assess the operation of its various engine and brake control systems and their interface with the driver.

• Obtained vehicle production quantity information from Wards.

• Reviewed various Lexus vehicle service manuals.

• Reviewed various Lexus vehicle owner manuals.

2.0 The Issue of Sudden Acceleration

2.1 “Sudden Acceleration (SA)”

The term “sudden acceleration” (SA) has been used (and misused) to describe vehicle events involving any unintended speed increase. However, the term properly refers to an “unintended, unexpected, high-power acceleration from a stationary position or a very low initial speed accompanied by an apparent loss of braking effectiveness.”² The definition includes “braking effectiveness” because operators experiencing a SA incident typically allege they were pressing on the brake pedal and the vehicle would not stop. “Sudden acceleration” does not describe unintended events that begin after vehicles have reached intended roadway speeds.

² John Pollard and E. Donald Sussman, An Examination of Sudden Acceleration (Cambridge, MA.: NHTSA, 1989, DOT-HS-807-367), v.

2.2 The NHTSA Study

On March 7, 1989, NHTSA released a report, authored by John Pollard and E. Donald Sussman, titled “An Examination of Sudden Acceleration,” documenting the agency's efforts (the “Study”) to determine what was causing a relatively large number of crashes in certain model vehicles due to apparent unintended (and substantial) engine power increase and alleged simultaneous loss of braking effectiveness. Typically, these events began while the vehicle was stationary, shortly after the driver had first entered it. They frequently ended in a crash. While the phenomenon affected all automatic transmission-equipped cars sold in the U.S., some had notably higher occurrence rates, with the Audi 5000 eclipsing them all.³ The issue of “runaway” Audi 5000s had been the subject of NHTSA defect investigations and safety recalls, class action lawsuits, considerable media coverage, and public controversy. Internationally, other governments investigated the phenomenon during roughly the same time period.⁴

³ The sudden acceleration report rate for 1978 through 1987 Audi 5000's was 586/100,000.

⁴ Transport Canada issued a report entitled “Investigation of Sudden Acceleration Incidents” in December 1988, concluding driver error caused the phenomenon. The Japanese Ministry of Transport released a report, “An Investigation on Sudden Starting and/or Acceleration of Vehicles with Automatic Transmissions,” in April 1989, which concluded that there was no common mechanical cause for sudden acceleration.

To help resolve the issue and thoroughly explore topics not fully investigated previously, NHTSA Administrator Diane Steed ordered an independent review of SA in October 1987 (the “Study”). The Transportation Systems Center (TSC) of Cambridge, Massachusetts was commissioned by NHTSA to study SA and identify the factors that cause and/or contribute to its occurrence. Ten different make/model/year vehicles—all with cruise control—were selected for particular scrutiny. Not all of the vehicles had unusually high SA incident rates; some were chosen based on their use of certain design approaches seen throughout the industry. In this way, the Study's sample was reasonably representative of the United States' automatic transmission-equipped vehicle population as a whole.

TSC collected literature, individual case documentation, and data for each of the selected vehicles. Many drivers involved in an alleged sudden acceleration incident were interviewed. TSC studied and tested the vehicles' fuel, cruise control, and braking systems.⁵ The vehicles' driving controls were evaluated for both location within the cabin and operation. After gathering the information, TSC convened a panel (the “Panel”) of independent experts in various disciplines ⁶ to review the data and make recommendations.

⁵ In some instances, the testing was performed by NHTSA's Vehicle Research and Test Center (VRTC).

⁶ The curriculum vitae of all the panelists is included in Appendix A to the Report. The panel was highly credentialed, including Dr. John B. Haywood, professor of Mechanical Engineering at M.I.T. and Director of its Sloan Automotive Laboratory, and Dr. Phillip B. Sampson, Hunt Professor of Psychology, Tufts University.

At the conclusion of TSC's effort, comprising thousands of person-hours gathering data, comprehensively testing vehicles including their systems and equipment, interviewing owners and drivers, and inspecting crash scenes and the vehicles involved, a report was released with the following conclusion: “For a sudden acceleration incident in which there is no evidence of throttle sticking or cruise control malfunction, the inescapable conclusion is that these definitely involve the driver inadvertently pressing the accelerator instead of, or in addition to, the brake pedal.”⁷

⁷ Pollard and Sussman, 49.

3.0 The ODI Consumer Complaint Database

3.1 “Vehicle Speed Control”

With NHTSA's recent roll-out of the ARTEMIS consumer complaint repository, all owner complaints that may involve a sudden acceleration event are coded (or in the case of reports pre-dating the roll-out, re-coded) as “Vehicle Speed Control” related (component code 180). These complaints form a subset of all complaints where a problem related to vehicle (i.e., engine) speed control was alleged (including, for example, some stalling complaints). Where a specific component is identified, the complaint is more descriptively coded as either: a. the accelerator pedal (component code 181); b. throttle linkages (component code 182); c. throttle cable(s) (component code 183); d. throttle return springs (component code 184); or e. the cruise control system (component code 185). In his petition, Mr. Boddaert requested that we conduct a petition analysis related to “Vehicle Speed Control-linkages,” component code 182. Our review of the NHTSA consumer complaints database found seven linkage-related complaints for MY 1997-2000 Lexus vehicles and sixty complaints if all six Vehicle Speed Control coding categories are included. On July 10, 2003, we discussed this issue with the petitioner and advised him that we planned to expand the petition's scope to include all six Vehicle Speed Control categories.

3.2 Lexus and its Peers

To determine whether incidents involving alleged sudden acceleration and/or vehicle speed control malfunctions are more frequently reported to NHTSA by Lexus owners, we compared the reporting frequency for Lexus, Cadillac, and Lincoln vehicles, as these represent a significant portion of the luxury car and SUV market. In each instance, we searched the NHTSA complaint database for all reports filed under component code 180 through 185 for vehicles where the “make” is Lexus, Cadillac, or Lincoln and the model year is 1997 through 2000. This search revealed a total of 182 reports.

3.3 Report Frequency

Of the 182 reports found in the search described above, 60 relate to Lexus vehicles, 57 involve Cadillacs, and 65 concern Lincolns. We then normalized this data to account for differences in vehicle production quantities. Here are the results:

Table 1.—Vehicle Speed Control Report Rate/100K for Lexus and Peers
Make | No. of complaints | Production | Rate/100K
Lexus | 60 | 599,983 | 10.0
Cadillac | 57 | 650,449 | 8.7
Lincoln | 65 | 610,340 | 10.6

Based on this analysis, there is no evidence that Lexus vehicles are experiencing vehicle speed control-related problems more frequently than their peers. However, to further assess the Lexus field experience, we conducted the analysis originally requested by the petitioner; i.e., we limited the complaint count to only those complaints related to Vehicle Speed Control-linkages. Here are those results:

Table 2.—Vehicle Speed Control-linkages Report Rate/100K for Lexus and Peers
Make | No. of complaints | Production | Rate/100K
Lexus | 7 | 599,983 | 1.2
Cadillac | 5 | 650,449 | .76
Lincoln | 11 | 610,340 | 1.8

Again, the results fail to establish the existence of a defect trend related to Lexus vehicle speed control problems and/or sudden acceleration incidents reported to NHTSA.

4.0 Conclusion

The information gathered does not indicate that Lexus vehicles are over-represented in the NHTSA database for consumer complaints concerning sudden acceleration and/or problems with vehicle speed control.

Based on the foregoing analysis, there is no reasonable possibility that an order concerning the notification and remedy of a safety-related defect would be issued as a result of granting Mr. Boddaert's petition. Therefore, in view of the need to allocate and prioritize NHTSA's limited resources to best accomplish the agency's safety mission, the petition is denied.

References

Bracket, Pezoldt, Sherrod, and Roush. September 1989. Human Factors Analysis of Automotive Foot Pedals. Texas Transportation Institute. DOT report HS-807-512.

Bosch, Robert. Automotive Handbook. Stuttgart: Robert Bosch GmbH, 1993.

Toyota Motor Corporation. 1999 Repair Manual, Volumes 1 and 2. Lexus LS400. Japan, 1998.

Toyota Motor Corporation. 1999 Lexus Owner's Manual, LS400. Japan, 1998.

Goodman, Richard M. and Center for Auto Safety. Automobile Design Liability. 3d, Volume 2, New York, NY: Clark, Boardman, and Callaghan, 1991.

Mortimer, R.G., Segal, L., Dugoff, H., Campbell, J.D., Jorgeson, C.M., and Murphy, R.W. “Brake force requirements study: Driver-vehicle braking performance as a function of brake system design variables.” Highway Safety Research Institute (HSRI), Final Report contract FH-11-6952, National Highway Safety Bureau, 1970.

National Broadcasting Co. Not So Fast. New York, NY. NBC News Dateline NBC. February 10, 1999.

B. Peacock & W. Karwowski (Eds.), Automotive Ergonomics: Human Factors in the Design and Use of Automobiles. London: Taylor and Francis, 1991.

Perel, M. (1983). Vehicle Familiarity and Safety (Tech. Report DOT HS-806-509). Washington, DC: U.S. Department of Transportation.

Schmidt, Richard A. “Unintended Acceleration: A Review of Human Factors Contributions,” Human Factors Society, Inc. 31(3), 345-364.

U.S. Department of Transportation. National Highway Traffic Safety Administration, Office of Defects Investigation. “Engineering Analysis Closing Report, EA78-110,” by Wolfgang Reinhart. Washington, DC: NHTSA, August 3, 1996.

U.S. Department of Transportation. National Highway Traffic Safety Administration, Office of Defects Investigation. “The Effect of Countermeasures to Reduce the Incidence of Unintended Acceleration Accidents” by Wolfgang Reinhart. Paper (No. 94 S5 O 07) delivered to the Fourteenth International Technical Conference on Enhanced Safety of Vehicles, Munich, Germany, May 23-26, 1994, a conference sponsored by the U.S. Department of Transportation.

U.S. Department of Transportation. National Highway Traffic Safety Administration, Office of Defects Investigation. Investigation of Sudden Acceleration Incident in Minneapolis, MN, by Bob Young. MF99-002, January 12, 1999.

U.S. Department of Transportation. National Highway Traffic Safety Administration, Office of Defects Investigation. Investigation of Sudden Acceleration Incident in Minneapolis, MN, Supplemental Report, by Bob Young. MF99-002, March 18, 1999.

U.S. Department of Transportation. Transportation Systems Center. An Examination of Sudden Acceleration, by John Pollard and E. Donald Sussman. DOT report HS-807-367. Cambridge, MA: TSC, January 1989.

U.S. Department of Transportation. National Highway Traffic Safety Administration, Office of Defects Investigation. Petition Analysis, by Bob Young. DP99-004, Washington, DC: NHTSA, April 6, 2000.

U.S. Department of Transportation. National Highway Traffic Safety Administration, Office of Defects Investigation. Petition Analysis, by John Ridgley. DP02-005, Washington, DC: NHTSA, June 24, 2002.

U.S. Department of Transportation. National Highway Traffic Safety Administration, Office of Defects Investigation. “Preliminary Evaluation, PE02-035,” by Bob Young. Washington, DC: NHTSA, October 22, 2002.

[FR Doc. 03-23959 Filed 9-18-03; 12:01 pm]

BILLING CODE 4910-59-P